DEPARTMENT OF ENERGY

Federal Energy Regulatory Commission

Combined Notice of Filings #1

Docket Numbers: EG22-192-000.

Applicants: Brotman Generating, LLC.

Description: Brotman Generating, LLC submits Notice of Self-Certification of Exempt Wholesale Generator Status.

Filed Date: 7/28/22.

Accession Number: 20220728-5140.

Comment Date: 5 p.m. ET 8/18/22.

Docket Numbers: EG22-193-000.

Applicants: Mark One II, LLC.

Description: Mark One II, LLC submits Notice of Self-Certification of Exempt Wholesale Generator Status.

Filed Date: 7/28/22.

Accession Number: 20220728-5141.

Comment Date: 5 p.m. ET 8/18/22.

Docket Numbers: EG22-194-000.

Applicants: Brotman II, LLC.

Description: Brotman II, LLC submits Notice of Self-Certification of Exempt Wholesale Generator Status.

Filed Date: 7/28/22.

Accession Number: 20220728-5152.

Comment Date: 5 p.m. ET 8/18/22.

Take notice that the Commission received the following Complaints and Compliance filings in EL Dockets:

Docket Numbers: EL22-80-000.

Applicants: American Municipal Power, Inc., Office of the People's Counsel for the District of Columbia, PJM Industrial Customer Coalition.

Description: Complaint of American Municipal Power, Inc., Office of the People's Counsel for the District of Columbia, et al. v. PJM Interconnection, L.L.

Filed Date: 7/26/22.

Accession Number: 20220726-5153.

Comment Date: 5 p.m. ET 8/15/22.

Take notice that the Commission received the following electric rate filings:

Docket Numbers: ER15-995-002; ER17-814-003; ER19-367-003.

Applicants: Pixelle Specialty Solutions LLC, Pixelle Energy Services LLC, Pixelle Androscoggin LLC.

Description: Notice of Non-Material Change in Status of Pixelle Specialty Solutions LLC, et al.

Filed Date: 7/27/22.

Accession Number: 20220727-5126.

Comment Date: 5 p.m. ET 8/17/22.

Docket Numbers: ER17-1320-003; ER17-2281-002; ER17-2282-002; ER19-135-002; ER20-64-002; ER20-65-002; ER21-653-002; ER21-654-002; ER21-856-003; ER21-857-003; ER21-1396-001; ER21-1397-001; ER21-2689-001; ER21-2690-001; ER21-2764-001; ER21-2769-001; ER22-19-001; ER22-20-001; ER22-215-001; ER22-216-001.

Applicants: PGR 2021 Lessee 2, LLC, Beulah Solar, LLC, PGR 2021 Lessee 1, LLC, Stanly Solar, LLC, PGR 2021 Lessee 7, LLC, Highest Power Solar, LLC, PGR 2021 Lessee 5, LLC, Lick Creek Solar, LLC, PGR 2020 Lessee 8, LLC, Sugar Solar, LLC, Trent River Solar, LLC, Trent River Solar Mile Lessee, LLC, PGR Lessee O, LLC, Centerfield Cooper Solar, LLC, TWE Bowman Solar Project, LLC, PGR Lessee L, LLC, Peony Solar LLC, Champion Solar, LLC, Swamp Fox Solar, LLC, Odyssey Solar, LLC.

Description: Notice of Non-Material Change in Status of Odyssey Solar, LLC, et al.

Filed Date: 7/27/22.

Accession Number: 20220727-5159.

Comment Date: 5 p.m. ET 8/17/22.

Docket Numbers: ER17-1985-001.

Applicants: Howard Wind LLC.

Description: Notice of Non-Material Change in Status of Howard Wind LLC.

Filed Date: 7/27/22.

Accession Number: 20220727-5122.

Comment Date: 5 p.m. ET 8/17/22.

Docket Numbers: ER22-2504-000.

Applicants: Duke Energy Progress, LLC.

Description: § 205(d) Rate Filing: DEP—Certificate of Concurrence to the CRSG Operating Manual to be effective 10/1/2022.

Filed Date: 7/27/22.

Accession Number: 20220727-5115.

Comment Date: 5 p.m. ET 8/17/22.

Docket Numbers: ER22-2505-000.

Applicants: Big Sky Wind, LLC.

Description: § 205(d) Rate Filing: Normal filing 2022 July to be effective 7/28/2022.

Filed Date: 7/28/22.

Accession Number: 20220728-5002.

Comment Date: 5 p.m. ET 8/18/22.

Docket Numbers: ER22-2506-000.

Applicants: Vitol Inc.

Description: § 205(d) Rate Filing: Normal filing 2022 July to be effective 7/28/2022.

Filed Date: 7/28/22.

Accession Number: 20220728-5003.

Comment Date: 5 p.m. ET 8/18/22.

Docket Numbers: ER22-2507-000.

Applicants: PJM Interconnection, L.L.C.

Description: Tariff Amendment: Notice of Cancellation of WMPA SA No. 5842; Queue No. AF2-286 to be effective 8/27/2022.

Filed Date: 7/28/22.

Accession Number: 20220728-5023.

Comment Date: 5 p.m. ET 8/18/22.

Docket Numbers: ER22-2508-000.

Applicants: Public Service Company of Colorado.

Description: § 205(d) Rate Filing: 2022-07-28 PSCo-PRPA-Avery SS-IA-406-0.0.0 to be effective 7/29/2022.

Filed Date: 7/28/22.

Accession Number: 20220728-5026.

Comment Date: 5 p.m. ET 8/18/22.

Docket Numbers: ER22-2509-000.

Applicants: American Transmission Systems, Incorporated, PJM Interconnection, L.L.C.

Description: § 205(d) Rate Filing: American Transmission Systems, Incorporated submits tariff filing per 35.13(a)(2)(iii: ATSI Submits Revised IA No. 3992 to be effective 9/27/2022.

Filed Date: 7/28/22.

Accession Number: 20220728-5034.

Comment Date: 5 p.m. ET 8/18/22.

Docket Numbers: ER22-2510-000.

Applicants: The Narragansett Electric Company.

Description: § 205(d) Rate Filing: Narragansett Amended MBR Tariff FERC Electric Tariff No. 2 to be effective 5/25/2022.

Filed Date: 7/28/22.

Accession Number: 20220728-5037.

Comment Date: 5 p.m. ET 8/18/22.

Docket Numbers: ER22-2511-000.

Applicants: Midcontinent Independent System Operator, Inc.

Description: § 205(d) Rate Filing: 2022-07-28_SA 3873 ITC Midwest-Elk Creek GIA (J1164) to be effective 9/27/2022.

Filed Date: 7/28/22.

Accession Number: 20220728-5044.

Comment Date: 5 p.m. ET 8/18/22.

Docket Numbers: ER22-2512-000.

Applicants: Arizona Public Service Company.

Description: § 205(d) Rate Filing: Rate Schedule No. 310, JUOM&R Agreement with APS & AES to be effective 9/28/2022.

Filed Date: 7/28/22.

Accession Number: 20220728-5092.

Comment Date: 5 p.m. ET 8/18/22.

Docket Numbers: ER22-2513-000.

Applicants: Deerfield Wind Energy 2, LLC.

Description: Initial rate filing: Application for Market-Based Rate, Waivers and Authority to be effective 8/15/2022.

Filed Date: 7/28/22.

Accession Number: 20220728-5094.

Comment Date: 5 p.m. ET 8/18/22.

Docket Numbers: ER22-2514-000.

Applicants: Arizona Public Service Company.

Description: Tariff Amendment: Service Agreement No. 388, Notice of Cancellation to be effective 9/27/2022.

Filed Date: 7/28/22.

Accession Number: 20220728-5100.

Comment Date: 5 p.m. ET 8/18/22/.

Docket Numbers: ER22-2515-000.

Applicants: American Electric Power Service Corporation, Indiana Michigan Power Company, AEP Indiana Michigan Transmission Company, Inc., PJM Interconnection, L.L.C.

Description: § 205(d) Rate Filing: American Electric Power Service Corporation submits tariff filing per 35.13(a)(2)(iii: AEP submits amended Billing Agent Agreement SA No. 5677 to be effective 10/1/2022.

Filed Date: 7/28/22.

Accession Number: 20220728-5107.

Comment Date: 5 p.m. ET 8/18/22.

Docket Numbers: ER22-2516-000.

Applicants: Chaves County Solar II, LLC.

Description: Request for Limited Waiver, et al. of Chaves County Solar II, LLC.

Filed Date: 7/28/22.

Accession Number: 20220728-5114.

Comment Date: 5 p.m. ET 8/18/22.

Docket Numbers: ER22-2517-000.

Applicants: Black Hills Colorado Electric, LLC.

Description: § 205(d) Rate Filing: Certificate of Concurrence to JDA with PSCo and PRPA to be effective 8/1/2022.

Filed Date: 7/28/22.

Accession Number: 20220728-5120.

Comment Date: 5 p.m. ET 8/18/22.

Docket Numbers: ER22-2518-000.

Applicants: Clearwater Wind I, LLC.

Description: Baseline eTariff Filing: Clearwater Wind I, LLC Application for Market-Based Rate Authorization to be effective 9/27/2022.

Filed Date: 7/28/22.

Accession Number: 20220728-5127.

Comment Date: 5 p.m. ET 8/18/22.

Docket Numbers: ER22-2519-000.

Applicants: Bellflower Solar 1, LLC.

Description: Baseline eTariff Filing: Petition for MBR Tariff, Waivers, Blanket Authority, and Expedited Treatment to be effective 10/1/2022.

Filed Date: 7/28/22.

Accession Number: 20220728-5132.

Comment Date: 5 p.m. ET 8/18/22.

Docket Numbers: ER22-2520-000.

Applicants: PJM Interconnection, L.L.C.

Description: Tariff Amendment: Notice of Cancellation of WMPA, SA No. 6059; Queue No. AG1-065 re: withdrawal to be effective 8/23/2022.

Filed Date: 7/28/22.

Accession Number: 20220728-5139.

Comment Date: 5 p.m. ET 8/18/22.

Docket Numbers: ER22-2521-000.

Applicants: PJM Interconnection, L.L.C.

Description: Tariff Amendment: Notice of Cancellation of WMPA, SA No. 5762; Queue No. AF2-282 re: withdrawal to be effective 8/27/2022.

Filed Date: 7/28/22.

Accession Number: 20220728-5148.

Comment Date: 5 p.m. ET 8/18/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 28, 2022.
Debbie-Anne A. Reese,
Deputy Secretary.

[FR Doc. 2022-16619 Filed 8-2-22; 8:45 am]

BILLING CODE 6717-01-P